PRESIDIO TRUST

Notice of Receipt of and Availability for Public Comment on an Application for Wireless Telecommunications Facilities Site

AGENCY: The Presidio Trust.

ACTION: Notice of receipt of and availability for public comment on an application for Wireless Telecommunications Facilities Site; the Presidio of San Francisco, California.

SUMMARY: This notice announces the Presidio Trust's receipt of and availability for public comment on an application from Omnipoint Communications, Inc. d/b/a T-Mobile for a temporary wireless telecommunications facilities site (“Project”) in The Presidio of San Francisco. The proposed location of the Project is below the Highway 101 overpass adjacent to Doyle Drive, in the vicinity of 1158 Gorgas Avenue.

The Project involves (i) licensing a 28′ x 22′ area (“Site”), (ii) placing a trailer with a cellular facility on wheels (“COW”) measuring approximately 27′ x 8′ on the Site, (iii) installing an 8′-high chain link fence with slats within a portion of an area already enclosed by a 12′-high chain link fence, and (iv) accessing electricity and telephone connectivity from 1158 Gorgas Avenue through surface conduit covered with an asphalt curb or crowned and sloped covering. The COW will host (a) a galvanized steel tower approximately 50′ tall, holding six antenna, three of which will be located at approximately 42′ and three of which will be located at approximately 47′, each measuring less than 56″ x 14″ x 4″, (b) radio equipment, and (c) all other equipment necessary to operate the Project, including an equipment cabinet measuring approximately 5.5′ high x 4′ x 3′.

Comments: Comments on the proposed project must be sent to Steve Carp, Presidio Trust, 34 Graham Street, P.O. Box 29052, San Francisco, CA 94129-0052, and be received by December 31, 2008. A copy of T-Mobile's application is available upon request to the Presidio Trust.

FOR FURTHER INFORMATION CONTACT: Steve Carp, Presidio Trust, 34 Graham Street, P.O. Box 29052, San Francisco, CA 94129-0052. E-mail: scarp@presidiotrust.gov. Telephone: 415.561.5300.

Dated: November 21, 2008.
Karen A. Cook,
General Counsel.

[FR Doc. E8-28260 Filed 11-26-08; 8:45 am] S

BILLING CODE 4310-4R-P